DEPARTMENT OF HEALTH AND HUMAN SERVICES

Agency for Toxic Substances and Disease Registry

Panel Discussion—Health Effects of Asbestos and Synthetic Vitreous Fibers: The Influence of Fiber Length

AGENCY: Agency for Toxic Substances and Disease Registry (ATSDR), Department of Health and Human Services (HHS).

ACTION: Notice of meeting.

SUMMARY: ATSDR is holding a panel discussion to review and discuss the current state-of-the-art understanding of health effects related to asbestos and synthetic vitreous fibers (SVFs), especially those of less than 5 microns in length. ATSDR has invited a cross-section of scientists with expertise in the fields of toxicology, epidemiology, pulmonology/pathology, and medicine to participate in 1½ days of discussions on a variety of topics, including depositional patterns of fibers in the lung and mechanisms of toxic action, the relationship of fiber size to toxicity, irritant effects of fibers, relationships between measured fiber levels and observed adverse health outcomes, and data gaps/research needs. ATSDR will use the scientific input received from the discussions of each of the individuals to aid in developing scientifically defensible public health evaluations for human exposures to smaller-than-5-micron fibers and in the formulation of future research proposals.

DATES: The panel discussion will be held on October 29, 2002, from 1 p.m. to approximately 6 p.m., and October 30, 2002, from 8 a.m. to approximately 5:30 p.m.

Location: The panel discussion will be held at the Jacob K. Javitz Federal Building, 26 Federal Plaza, 6th Floor, New York, NY 10278. It is located on Broadway between Worth and Duane Streets. Participants must enter through the Broadway Street “Federal Employees Entrance” and show picture identification and a registration confirmation e-mail from ERG. To make hotel reservations at the nearby Holiday Inn Downtown/SoHo, please call the hotel directly at 212-966-8898. Reference the “ATSDR Fibers Panel” to receive the group rate of $195.00/night plus 13.25 percent tax and $2.00 occupancy tax. You must make your reservation before October 14, 2002. After this date, any remaining rooms will be released from our block and sold on a space- and rate-available basis.

Attending the Panel Discussion: The public is welcome to attend the panel discussions. There is no charge for attending the meeting; however, you must pre-register as seating is limited. To register, send your full contact information (name, affiliation, mailing address, phone, fax, and email) to ATSDR's contractor, Eastern Research Group, Inc. (ERG) by email (meetings@erg.com) or fax (781-674-2906), referencing the “ATSDR Fibers Panel.” If you have any questions about registration, please call ERG directly at 781-674-7374.

A limited amount of time will be set aside for members of the public to present brief oral comments regarding asbestos- and synthetic vitreous fiber-related scientific issues. Oral presentations will be limited to 5 minutes, and the number of people giving oral comments may be limited by the time available. Opportunity for making oral comment will be provided on a first-come, first-served basis; therefore, the public is encouraged to pre-register and sign-up to present oral comments by emailing (meetings@erg.com) or faxing (781-674-2906) ERG. After the meeting, ATSDR will prepare a summary report that will capture the salient points of each of the panel members and observers. The agency will consider the scientific information received during the meeting to aid in developing scientifically defensible public health evaluations for human exposures to smaller-than-5-micron fibers and in the formulation of future research proposals.

FOR FURTHER INFORMATION: For general questions about the asbestos and synthetic vitreous fibers panel discussion, contact Dr. Allan Susten, Assistant Director for Science, Division of Health Assessment and Consultation, ATSDR, at 404-498-0007.

For questions about logistics, contact ERG at 781-674-7374.

Background Information: ATSDR conducts public health assessments to evaluate possible public health implications of contaminants associated with hazardous waste sites and other environmental releases. A crucial part of this evaluation is the understanding of toxicological implications of exposure to substances that may be present. Recent events have highlighted a need to further explore the potential for health effects from exposure to biopersistent fibers, specifically asbestos and some SVFs. ATSDR is currently involved in several site assessments that address the potential for residential and community exposures to persistent fibers from past industrial operations (e.g., vermiculite processing plants across the country), hazardous waste sites, and dust generated from the World Trade Center (WTC) collapses in lower Manhattan. These sites are unique in that contaminant materials are/may be present in people's homes and communities. Additionally, there are potential concerns surrounding smaller length fibers which may have been generated by each of these past activities, especially in relation to the materials found in lower Manhattan.

Smaller fibers and non-fibrous particles may be generated as fibrous materials are processed, disposed of, or damaged, as in the case of the WTC collapses. In these situations, traditional fiber counting techniques may not quantify all of the materials present. Standard assessment methodology addresses fibers greater than 5 microns in length, based on the relative risk of longer fibers being greater than that of shorter fibers. Significant toxicology and occupational health research has focused on asbestos fibers and SVF greater than 5 microns in length, however, it seems that much less is known about the potential health effects of smaller fibers. ATSDR has identified a need to understand the potential for fibers less than 5 microns in length to contribute to adverse health effects. ATSDR is convening this panel to gain a greater understanding of asbestos and SVF toxicity, especially as it relates to fibers less than 5 microns in length. Research needs identified during these deliberations may lead to the development of specific research projects.

ATSDR's overall goal is to receive individual expert opinions on the following three general questions related to asbestos and SVF toxicity. A number of specific questions related to these issues will also be discussed. (1) What is the physiological fate of asbestos and vitreous fibers less than 5 microns in length? (2) What are the potential health effects (cancer and non-cancer) of asbestos and vitreous fibers less than 5 microns in length? (3) What data gaps are evident when addressing the above questions? What research is needed to fill these data gaps?

Dated: October 4, 2002.
Georgi Jones,
Director, Office of Policy and External Affairs, Agency for Toxic Substances and Disease Registry.

[FR Doc. 02-25922 Filed 10-10-02; 8:45 am]

BILLING CODE 4163-70-P